DEPARTMENT OF VETERANS AFFAIRS

[OMB Control No. 2900-0154]

Agency Information Collection Activity Under OMB Review: Application for VA Education Benefits

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0154.”

FOR FURTHER INFORMATION CONTACT: VA PRA information: Maribel Aponte, 202-461-8900, vacopaperworkreduact@va.gov.

SUPPLEMENTARY INFORMATION:

Title: Application for VA Education Benefits, VA Form 22-1990; Application for Family Member to use Transferred Benefits, VA Form 22-1990E; Application for VA Benefits under the National Call to Service Program, VA Form 22-1990N.

OMB Control Number: 2900-0154, https://www.reginfo.gov/public/do/PRASearch.

Type of Review: Revision of a currently approved collection.

Abstract: Applicants complete and submit the Application for Education Benefits, VA Form 22-1990; National Call to Service (NCS), VA Form 22-1990N, or the Transfer of Entitlement (TOE), VA Form 22-1990E to file their claim for VA education benefits, which all have different eligibility requirements. The information requested on each of these forms helps VA to determine the applicant's eligibility to education benefits.

An agency may not conduct or sponsor, and a person is not required to respond to a collection of information unless it displays a currently valid OMB control number. The Federal Register Notice with a 60-day comment period soliciting comments on this collection of information was published at 89 FR 73192, September 9, 2024.

Affected Public: Individuals and Households.

Estimated Annual Burden: 36,458 hours.

Estimated Average Burden per Respondent: 15 minutes.

Frequency of Response: Once.

Estimated Number of Respondents: 145,834.

Authority: 44 U.S.C. 3501 et seq.

Maribel Aponte,
VA PRA Clearance Officer, Office of Enterprise and Integration, Data Governance Analytics, Department of Veterans Affairs.

[FR Doc. 2024-26585 Filed 11-14-24; 8:45 am]

BILLING CODE 8320-01-P